ENVIRONMENTAL PROTECTION AGENCY

[EPA-HQ-OPP-2012-0844; FRL-9383-5]

Product Cancellation Order for Certain Pesticide Registrations

AGENCY: Environmental Protection Agency (EPA).

ACTION: Notice.

SUMMARY: This notice announces EPA's order for the cancellations, voluntarily requested by the registrants and accepted by the Agency, of the products listed in Table 1. and 2. of Unit II., pursuant to the Federal Insecticide, Fungicide, and Rodenticide Act (FIFRA). This cancellation order follows a December 19, 2012 Federal Register Notice of Receipt of Request from the registrants listed in Table 3. of Unit II. to voluntarily cancel these technical and end use product registrations. In the December 19, 2012 notice, EPA indicated that it would issue an order implementing the cancellations unless the Agency received substantive comments within the 30-day comment period that would merit its further review of these requests, or unless the registrants withdrew their requests. The Agency received one set of comments on the notice, and the comments did not merit EPA's further review of the request. Further, the registrants did not withdraw their requests. Accordingly, EPA hereby issues in this notice a cancellation order granting the requested cancellations. Any distribution, sale, or use of the products subject to this cancellation order is permitted only in accordance with the terms of this order, including any existing stocks provisions.

DATES: The allethrin series of pyrethroid insecticides includes bioallethrin (PC code 004003), esbiol (004004), esbiothrin (004007), and pynamin forte (004005). The cancellation for all allethrins technical products, listed in Table 1. of Unit II., will be effective September 30, 2015; no use of technical allethrins products to formulate any end use products will be permitted after December 31, 2015; and the cancellation for the allethrins end use products listed in Table 2. of Unit II. will be effective December 31, 2016.

FOR FURTHER INFORMATION CONTACT: Molly Clayton, Pesticide Re-Evaluation Division (7508P), Office of Pesticide Programs, Environmental Protection Agency, 1200 Pennsylvania Ave. NW., Washington, DC 20460-0001; telephone number: (703) 603-0522; fax number: (703) 308-8090; email address: clayton.molly@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2012-0844 is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellation, as requested by registrants of products registered under FIFRA section 3. These registrations are listed in sequence by registration number in Tables 1. and 2. of this unit.

Table 1—Technical Product Cancellations
Registration No. | Product name
10308-3 | Pynamin Forte Technical.
73049-105 | Bioallethrin Technical.
73049-125 | Crossfire Technical.
73049-155 | Esbiol Technical.
73049-156 | Crossfire Technical.
73049-359 | Bioallethrin Technical.
73049-394 | VBC Bioallethrin 90% Concentrate.
73049-395 | VBC Esbiol Concentrate.
73049-399 | VBC Esbiothrin.

Table 2—End Use Product Cancellations
Registration No. | Product name
73049-157 | Cypermethrin/Esbiothrin/Piperonyl Butoxide 0.05%/0.1%/0.4% A.
73049-177 | DS 205 Insecticide.
73049-178 | UltraTec DS 215 Insecticide.
73049-180 | DS 530 Insecticide.
73049-183 | ULTRATEC DS 210 Insecticide.
73049-184 | Ultratec KD AC.
73049-210 | DSP 0.25-2.5-25 AC.
73049-354 | UltraTec DS OB AC.
73049-389 | UltraTec DSP 515 Insecticide.
73049-390 | UltraTec DS 105 OB Insecticide.

Table 3. of this unit includes the names and addresses of record for all registrants of the products in Tables 1. and 2. of this unit, in sequence by EPA company number. This number corresponds to the first part of the EPA registration numbers of the products listed in Table 1. of this unit.

Table 3—Registrants of Cancelled Products
EPA Company No. | Company name and address
10308 | Sumitomo Chemical Company, Ltd., 1330 Dillon Heights Avenue, Baltimore, MD 21228-1199.
73049 | Valent BioSciences Corporation, 870 Technology Way, Suite 100, Libertyville, IL 60048-6316.

III. Summary of Public Comments Received and Agency Response to Comments

During the comment period, the Agency received comments from ThermaCELL (a division of The Schawbel Corporation), a company that uses an allethrin technical product, for which cancellation was requested, in the formulation of its end use products. In its comments, ThermaCELL asks for additional time to formulate its allethrins end use products, beyond the date of December 31, 2015, as specified in the Notice of Receipt of a Request to Voluntarily Cancel Certain Pesticide Registrations, in order to pursue alternative formulation and product design options. ThermaCELL also recommended certain changes to the proposed cancellation order. For example, ThermaCELL asked that EPA change the definition of existing stocks to allow existing stocks stored overseas to be imported and sold in the United States. ThermaCELL also requested EPA modify the language regarding the dates related to existing stocks. Finally, ThermaCELL requested that companies be given until 2020 to identify an alternative provider of allethrins because that was the Agency's projected timeframe for completing registration review.

The cancellation schedule allows almost 3 years (from March 2013 to December 2015) before formulation of allethrins end use products using the cancelled technical products would be prohibited. ThermaCELL did not explain its basis for suggesting that cancellation as of December 2015 would be insufficient to develop alternative product formulations or equipment. As for the suggested changes to the cancellation order language, both the Notice of Receipt of a Request to Voluntarily Cancel Certain Pesticide Registrations and this Product Cancellation Order provide the standard language for existing stocks used by EPA when describing cancellation actions. The existing stocks dates are well into the future, including that as of January 1, 2017, persons other than registrants (including ThermaCELL) will be allowed to sell, distribute, or use existing stocks of cancelled end use products until such stocks are exhausted. EPA does not believe it is necessary to modify the definition of, and dates for, formulation and use of existing stocks here. For these reasons, the Agency does not believe that the comments submitted during the comment period merit further review or a denial of the requests for voluntary cancellation.

IV. Cancellation Order

Pursuant to FIFRA section 6(f), EPA hereby approves the requested cancellations of the registrations identified in Table 1. and 2. of Unit II. Accordingly, the Agency orders that the product registrations identified in Table 1. and 2. of Unit II. are canceled. The effective date of the cancellations that are the subject of this notice are as follows: the cancellation for all allethrins technical products, listed in Table 1. of Unit II., will be effective September 30, 2015; no use of technical allethrins products to formulate any end use products will be permitted after December 31, 2015; and the cancellation for the allethrins end use products listed in Table 2. of Unit II. will be effective December 31, 2016. Any distribution, sale, or use of existing stocks of the products identified in Tables 1. and 2. of Unit II. in a manner inconsistent with any of the provisions for disposition of existing stocks set forth in Unit VI. will be a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register issue of December 19, 2012 (77 FR 75157) (FRL-9368-8). The comment period closed on January 17, 2013.

VI. Provisions for Disposition of Existing Stocks

Existing stocks are those stocks of registered pesticide products which are currently in the United States and which were packaged, labeled, and released for shipment prior to the effective date of the cancellation action. The registrants may continue to sell and distribute existing stocks of technical products listed in Table 1. of Unit II. up to and including September 30, 2015, and end use products listed in Table 2. of Unit II. up to and including December 31, 2016. The following terms and conditions are applicable to existing stocks:

• No sale or distribution of allethrins technical products by any person, other than for purposes of disposal or export, will be permitted after September 30, 2015.

• No use of technical allethrins products to formulate end use products will be permitted after December 31, 2015.

• As of January 1, 2017, persons other than registrants will be allowed to sell, distribute, or use existing stocks of cancelled end use products until such stocks are exhausted. Use of existing stocks will be permitted only to the extent that the use is consistent with the terms of the previously-approved labeling accompanying the product used.

List of Subjects

Environmental protection, Pesticides and pests.

Dated: April 11, 2013.
Richard P. Keigwin Jr.,
Director, Pesticide Re-Evaluation Division, Office of Pesticide Programs.

[FR Doc. 2013-09554 Filed 4-23-13; 8:45 am]

BILLING CODE 6560-50-P